DEPARTMENT OF THE INTERIOR

Bureau of Reclamation

Notice of Availability of a Draft Agency Handbook on the National Environmental Policy Act

AGENCY: Bureau of Reclamation, Interior.

ACTION: Notice of availability of a draft agency handbook on the National Environmental Policy Act.

SUMMARY: Pursuant to the Council on Environmental Quality's Regulations for Implementing the Procedural Provisions of the National Environmental Policy Act (NEPA), Section 1507.3, the Bureau of Reclamation has prepared a handbook to provide basic guidance to its employees on NEPA issues. Comments on the document will be accepted.

DATES: A 60-day public review period commences with the publication of this notice. Comments must be submitted to Reclamation at the addresses provided below no later than June 19, 2000.

ADDRESSES: Written comments on the NEPA Handbook should be addressed to the Bureau of Reclamation, Office of Policy, Attention: Dr. Darrell Cauley, Manager—Environmental and Planning Coordination, D-5100, Denver Federal Center, PO Box 25007, Denver, CO 80225-0007.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

The entire document is available at http://www.usbr.gov/nepa on the Internet. Copies of the NEPA Handbook may also be requested from Theresa Taylor at the above address or via the INTERNET at nepa@do.usbr.gov or by calling (303) 445-2826.

Copies of the NEPA Handbook are available for public inspection and review at the following locations:

• Bureau of Reclamation, Reclamation Service Center Library, Building 67, Room 167, Denver Federal Center, 6th and Kipling, Denver, Colorado 80225; telephone: (303) 445-2072

• Natural Resources Library, U.S. Department of the Interior, 1849 C Street NW, Main Interior Building, Washington, DC 20240-0001

FOR FURTHER INFORMATION CONTACT: Theresa Taylor, Bureau of Reclamation, Office of Policy, at (303) 445-2826.

SUPPLEMENTARY INFORMATION: The NEPA Handbook was developed to assist Reclamation employees who are required to comply with the National Environmental Policy Act and various other environmental laws as part of their daily work. The document was first published in 1991. After Reclamation was reorganized in 1994 to reflect a decentralization of decision making and authority, the NEPA Handbook needed major revisions to reflect the reorganization and to update the content. The handbook was extensively revised and has gone through various stages of reviews both internally and with the Council on Environmental Quality. At the commencement of the public review, comments received will be considered as part of a final revision of the handbook.

Dated: April 13, 2000.
Elizabeth Cordova-Harrison,
Deputy Director, Office of Policy.

[FR Doc. 00-9893 Filed 4-19-00; 8:45 am]

BILLING CODE 4310-94-M